ENVIRONMENTAL PROTECTION AGENCY

[FRL-7647-4]

EPA National Advisory Council for Environmental Policy and Technology; Notification of Public Advisory Committee Teleconference Meeting

AGENCY: Environmental Protection Agency (EPA).

ACTION: Notification of Public Advisory Committee teleconference meeting.

SUMMARY: Pursuant to the Federal Advisory Committee Act, Public Law 92-463, notice is hereby given that the National Advisory Council for Environmental Policy and Technology (NACEPT) will meet in a public teleconference on Friday, April 30, 2004, from 11 a.m. to 1 p.m. eastern time. The meeting will be hosted out of the main conference room, U.S. EPA, 655 15th Street, NW., Suite 800, Washington, DC 20005. The meeting is open to the public, however, due to limited space, seating will be on a registration-only basis. For further information regarding the teleconference meeting, or how to register and obtain the phone number, please contact the individual listed below.

Background: NACEPT is a Federal advisory committee under the Federal Advisory Committee Act, Public Law 92463. NACEPT provides advice and recommendations to the Administrator and other EPA officials on a broad range of domestic and international environmental policy issues. NACEPT consists of a representative cross-section of EPA's partners and principle constituents who provide advice and recommendations on policy issues and serves as a sounding board for new strategies that the Agency is developing. The Superfund Committee is one of the subcommittees under the auspices of NACEPT.

Purpose of Meeting: The NACEPT Superfund Committee has submitted a draft report to the NACEPT Council for its review and approval. The purpose of this teleconference is for the NACEPT Council to review, discuss, and decide whether to approve the NACEPT Superfund Committee Draft Report.

Availability of Review Materials: The NACEPT Superfund Committee Draft Report is available electronically from EPA's Office of Solid Waste and Emergency Response, at http://www.epa.gov/oswer/SFsub.htm.

SUPPLEMENTARY INFORMATION: Members of the public wishing to gain access to the conference room on the day of the meeting must contact Ms. Sonia Altieri, Designated Federal Officer for NACEPT, U.S. Environmental Protection Agency (1601E), Office of Cooperative Environmental Management, 655 15th Street, NW., Suite 800, Washington, DC 20005; telephone/voice mail at (202) 233-0061 or via e-mail at altieri.sonia@epa.gov. The agenda will be available to the public upon request. Requests to make oral or written comments to the Council should be sent to Sonia Altieri by Friday, April 23, 2004.

General Information: Additional information concerning the National Advisory Council for Environmental Policy and Technology (NACEPT) can be found on our Web site (http://www.epa.gov/ocem).

Meeting Access: Individuals requiring special accommodation at this meeting, including wheelchair access to the conference room, should contact Ms. Altieri at least five business days prior to the meeting so that appropriate arrangements can be made.

Dated: April 7, 2004.
Sonia Altieri,
Designated Federal Officer.

[FR Doc. 04-8458 Filed 4-13-04; 8:45 am]

BILLING CODE 6560-50-P